NATIONAL CREDIT UNION ADMINISTRATION

Agency Information Collection Activities: Proposed Collection; Proof of Concept Application for New Charter Organizing Groups

AGENCY: National Credit Union Administration (NCUA).

ACTION: Notice and request for comment.

SUMMARY: The National Credit Union Administration (NCUA), as part of a continuing effort to reduce paperwork and respondent burden, invites the general public and other Federal agencies to comment on the following new collection of information, as required by the Paperwork Reduction Act of 1995.

DATES: Written comments should be received on or before May 10, 2019 to be assured consideration.

ADDRESSES: Interested persons are invited to submit written comments on the information collection to Dawn Wolfgang, National Credit Union Administration, 1775 Duke Street, Suite 5080, Alexandria, Virginia 22314; Fax No. 703-519-8579; or Email at PRAComments@NCUA.gov.

FOR FURTHER INFORMATION CONTACT: Address requests for additional information to Dawn Wolfgang at the address above or telephone 703-548-2279.

SUPPLEMENTARY INFORMATION:

OMB Number: 3133-NEW.

Title: Proof of Concept Application for New Charter Organizing Groups.

Type of Review: New collection.

Abstract: The Credit Union Resources and Expansion (CURE) office of NCUA is responsible for the review and approval of charter applications submitted by organizing groups. CURE is enhancing the application process for organizers to submit their information through an automated system to document the four most critical elements to establish a new charter. The four areas are usually the greatest challenge for organizers to accomplish. The automated system will assist organizing groups in demonstrating that they have thoroughly evaluated the proposed credit union's operations by documenting the most critical elements of a new charter, such as the purpose and core values, field of membership, capital, and subscribers.

The data will be reviewed by NCUA to determine the adequacy of a group's proof of concept and provide guidance as needed. The purpose of this information collection is to identify the level of understanding an organizing group has before they make a formal charter application submission as prescribed by Appendix B to 12 CFR part 701.

Affected Public: Private Sector: Not-for-profit institutions.

Estimated Number of Annual Respondents: 24.

Estimated Annual Frequency: 2.

Estimated Total Annual Responses: 24.

Estimated Hours per Response: 4.

Estimated Total Annual Burden Hours: 96.

Request for Comments: Comments submitted in response to this notice will be summarized and included in the request for Office of Management and Budget approval. All comments will become a matter of public record. The public is invited to submit comments concerning: (a) Whether the collection of information is necessary for the proper execution of the function of the agency, including whether the information will have practical utility; (b) the accuracy of the agency's estimate of the burden of the collection of information, including the validity of the methodology and assumptions used; (c) ways to enhance the quality, utility, and clarity of the information to be collected; and (d) ways to minimize the burden of the collection of the information on the respondents, including the use of automated collection techniques or other forms of information technology.

By Hattie M. Ulan, Acting Secretary of the Board, the National Credit Union Administration, on March 5, 2019.

Dated: March 6, 2019.
Dawn D. Wolfgang,
NCUA PRA Clearance Officer.

[FR Doc. 2019-04339 Filed 3-8-19; 8:45 am]

BILLING CODE 7535-01-P